INTERNATIONAL TRADE COMMISSION

[Investigation No. 337-TA-534]

In the Matter of Certain Color Television Receivers and Color Display Monitors and Components Thereof; Notice of Commission Determination Not To Review an Initial Determination Terminating the Investigation on the Basis of Two Settlement Agreements

AGENCY: U.S. International Trade Commission.

ACTION: Notice.

SUMMARY: Notice is hereby given that the U.S. International Trade Commission has determined not to review the presiding administrative law judge's (“ALJ's”) initial determination (“ID”) granting a joint motion to terminate the above-captioned investigation on the basis of two settlement agreements.

FOR FURTHER INFORMATION CONTACT: Steven Crabb, Esq., Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted by the Commission based on a complaint filed by Thomson Licensing S.A. and Thomson Licensing Inc. See 70 FR 15883 (March 29, 2005). The complaint alleged violations of section 337 of the Tariff Act of 1930 in the importation into the United States, the sale for importation, and the sale in the United States after importation of certain color television receivers and color display monitors and components thereof by reason of infringement of claims 1 and 3 of U.S. Patent No. 4,836,651, claim 1 of U.S. Patent No. 5,041,888, claims 1, 5, and 7 of U.S. Patent No. 5,153,754, claims 1, 3, 5, and 6 of U.S. Patent No. 5,389,893, and claims 1 and 2 of U.S. Patent No. 5,452,195. The complaint named as respondents, BenQ Corp. of Taoyuan 33 of Taiwan; BenQ Optronics (Suzhou) Co., Ltd. of China; BenQ America Corp. of Irvine, California; and AU Optronics Corp. of Hsinchu, Taiwan.

On December 9, 2005, the private parties filed a joint motion to terminate the investigation on the basis of two settlement agreements. On December 14, 2005, the Commission investigative attorney filed a response in support of the parties' joint motion to terminate the investigation.

On December 20, 2005, the ALJ issued an ID (Order No. 45) granting the joint motion to terminate the investigation on the basis of the settlement agreements. The ALJ found no indication that such termination of the investigation would adversely impact the public interest. No party filed a petition to review the subject ID.

The Commission has determined not to review the ALJ's ID. Accordingly, the above-referenced investigation is hereby terminated.

The authority for the Commission's determination is contained in section 337 of the Tariff Act of 1930, as amended (19 U.S.C. 1337), and in §§ 210.21(b), and 210.42 of the Commission's Rules of Practice and Procedure (19 CFR 210.21, 210.42).

By order of the Commission.
Issued: January 23, 2006.
Marilyn R. Abbott,
Secretary to the Commission.

[FR Doc. E6-1037 Filed 1-26-06; 8:45 am]

BILLING CODE 7020-02-P